DEPARTMENT OF COMMERCE

National Oceanic and Atmospheric Administration

50 CFR Part 660

[Docket No. 240621-0173]

RIN 0648-BM47

Fisheries Off West Coast States; West Coast Salmon Fisheries; 2024 Specifications and Management Measures; Correction

AGENCY: National Marine Fisheries Service (NMFS), National Oceanic and Atmospheric Administration (NOAA), Commerce.

ACTION: Final rule; correcting amendment.

SUMMARY: NMFS established fishery management measures for the ocean salmon fisheries off Washington, Oregon, and California for the season beginning May 16, 2024, and anticipated to end May 15, 2025 (the 2024 ocean salmon fishing season), under the authority of the Magnuson-Stevens Fishery Conservation and Management Act (MSA). The final rule, published in the Federal Register on May 21, 2024, included errors in the management measures for the recreational and commercial ocean salmon fisheries in the area from the California/Oregon border to the U.S./Mexico border. This action corrects those errors by adding the language that was omitted from the May 21, 2024 rule.

DATES: Effective June 26, 2024.

FOR FURTHER INFORMATION CONTACT: Shannon Penna at 562-980-4239.

SUPPLEMENTARY INFORMATION: The final rule published May 21, 2024 (89 FR 44553), describes annual management measures for managing the harvest of salmon in federal waters. This correcting amendment corrects errors in the May 21, 2024 rule, by adding management measures for the recreational and commercial ocean salmon fisheries in the area from the Oregon/California border to the U.S./Mexico border. Specifically, the corrections are needed for the commercial ocean salmon fisheries from the Oregon/California border to Humboldt South Jetty (California Klamath Management Zone (KMZ)), recreational ocean salmon fisheries from the Oregon/California border to Latitude 40°10′ N, commercial and recreational ocean salmon fisheries from Latitude 40°10′ N to Point Arena (Fort Bragg), commercial and recreational ocean salmon fisheries from Point Arena to Pigeon Point (San Francisco), and commercial and recreational ocean salmon fisheries from Pigeon Point to the U.S./Mexico border (Monterey).

Need for Correction

The 2024 salmon management measures (89 FR 44553, May 21, 2024), section 1, part A describes the commercial ocean salmon fisheries in the area from the Oregon/California border to the U.S./Mexico border. Section 2, part A describes the recreational ocean salmon fisheries in the area from the Oregon/California border to the U.S./Mexico border. The May 21, 2024 rule omitted certain management measures for commercial and recreational salmon fisheries off the coast of California, including Chinook salmon size limits.

Classification

NMFS is issuing this rule pursuant to 305(d) of the MSA In a previous action taken pursuant to section 304(b), NMFS approved a Fishery Management Plan (FMP) that authorizes the agency to take this action pursuant to MSA section 305(d). See 50 CFR 660.408. These regulations are being promulgated under the authority of 16 U.S.C. 1855(d) and 16 U.S.C. 773(c). The NOAA Assistant Administrator for Fisheries (AA) has determined that this final rule is consistent with the Pacific Coast Salmon FMP and other applicable law.

The AA finds good cause under 5 U.S.C. 553(b)(B) to waive the requirement for prior notice and opportunity for additional public comment for this action as notice and comment would be unnecessary and contrary to the public interest because this action simply corrects an error in the final rule. This correction does not affect the results of analyses conducted to support management decisions in the salmon fishery nor change the total catch of salmon. In addition, it is important that the errors be corrected as quickly as possible. The correction seeks to eliminate confusion on the part of the public that could prevent the prosecution of fisheries. Moreover, significant public participation took place in the process of developing the management measures through a process that involved state and Tribal governments and the Pacific Fishery Management Council. No aspect of this action is controversial and no change in operating practices in the fishery is required. For the same reasons, pursuant to 5 U.S.C. 553(d), the AA finds good cause to waive the 30-day delay in effective date.

Because prior notice and opportunity for public comment are not required for this rule by 5 U.S.C. 553, or any other law, the analytical requirements of the Regulatory Flexibility Act, 5 U.S.C. 601 et seq., are inapplicable.

This final rule is exempt from review under Executive Order 12866.

Authority: 16 U.S.C. 773-773k; 1801 et seq.

Correction

In FR Doc. 2024-11046 appearing on page 44553, in the Federal Register of Tuesday, May 21, 2024, the following correction is made:

On page 44559, in the second column, the description of the commercial ocean salmon troll fishery in the area from the Oregon/California border to the U.S./Mexico border is corrected to read as follows:

—Oregon/California border to Humboldt South Jetty (California KMZ)

Closed in 2024.

In 2025, the season will open May 1 through the earlier of May 31, or a 3,000 Chinook salmon quota. Chinook salmon minimum size limit of 27 inches (68.5 cm) total length. Landing and possession limit of 25 Chinook salmon per vessel per week. Open 5 days per week (Friday—Tuesday). All salmon except coho salmon. Any remaining portion of Chinook salmon quotas may be transferred inseason on an impact neutral basis to the next open quota period. All fish caught in this area must be landed within the area, within 24 hours of any closure of the fishery and prior to fishing outside the area. Electronic Fish Tickets must be submitted within 24 hours of landing. Klamath Control Zone closed. See California State regulations for an additional closure adjacent to the Smith River.

On page 44559, in the third column, the description of the commercial ocean salmon troll fishery in the area from the Oregon/California border to the U.S./Mexico border is corrected to read as follows:

—Latitude 40°10′ N to Point Arena (Fort Bragg)

Closed in 2024.

In 2025, the season opens April 16 for all salmon except coho salmon. Chinook salmon minimum size limit of 27 inches (68.5 cm) total length. Gear restrictions same as in 2022. Harvest guidelines and vessel-based landing and possession limits may be considered inseason. Inseason action to close fisheries, modify season dates, or modify vessel-based landing and possession limits may be considered when total commercial harvest in this management area is approaching its harvest guideline. Electronic Fish Tickets must be submitted within 24 hours of landing.

—Point Arena to Pigeon Point (San Francisco)

Closed in 2024.

In 2025, the season opens May 1 for all salmon except coho salmon. Chinook salmon minimum size limit of 27 inches (68.5 cm) total length). Gear restrictions same as in 2022. Harvest guidelines and vessel-based landing and possession limits may be considered inseason. Inseason action to close fisheries, modify season dates, or modify vessel-based landing and possession limits may be considered when total commercial harvest in this management area is approaching its harvest guideline. Electronic Fish Tickets must be submitted within 24 hours of landing.

—Pigeon Point to the U.S./Mexico border (Monterey)

Closed in 2024.

In 2025, the season opens May 1 for all salmon except coho salmon. Chinook salmon minimum size limit of 27 inches (68.5 cm) total length. Gear restrictions same as in 2022. Harvest guidelines and vessel-based landing and possession limits may be considered inseason. Inseason action to close fisheries, modify season dates, or modify vessel-based landing and possession limits may be considered when total commercial harvest in this management area is approaching its harvest guideline. Electronic Fish Tickets must be submitted within 24 hours of landing.

On page 44562, in the third column, the description of the recreational ocean salmon fishery in the area from the Oregon/California border to the U.S./Mexico border is correct to read as follows:

—Oregon/California border to latitude 40°10′ N (California KMZ)

Closed in 2024.

In 2025, the season opens April 5 for all salmon except coho salmon, two salmon per day. Chinook salmon minimum size limit of 20 inches (50.8 cm) total length. Gear restrictions same as in 2022. Harvest guidelines and bag limits may be considered inseason. Inseason action to close fisheries, modify season dates, or modify the bag limit may be considered when total sport harvest is approaching a harvest guideline.

—Latitude 40°10′ N to Point Arena (Fort Bragg)

Closed in 2024.

In 2025, the season opens April 5 for all salmon except coho salmon, two salmon per day. Chinook salmon minimum size limit of 20 inches (50.8 cm) total length. Gear restrictions same as in 2022. Harvest guidelines and bag limits may be considered inseason. Inseason action to close fisheries, modify season dates, or modify the bag limit may be considered when total sport harvest is approaching a harvest guideline.

—Point Arena to Pigeon Point (San Francisco)

Closed in 2024.

In 2025, the season opens April 5 for all salmon except coho salmon, two salmon per day. Chinook salmon minimum size limit of 24 inches (61.0 cm) total length. Gear restrictions same as in 2022. Harvest guidelines and bag limits may be considered inseason. Inseason action to close fisheries, modify season dates, or modify the bag limit may be considered when total sport harvest is approaching a harvest guideline.

—Pigeon Point to U.S./Mexico border (Monterey)

Closed in 2024.

In 2025, the season opens April 5 for all salmon except coho salmon, two salmon per day. Chinook salmon minimum size limit of 24 inches (61.0 cm) total length. Gear restrictions same as in 2022. Harvest guidelines and bag limits may be considered inseason. Inseason action to close fisheries, modify season dates, or modify the bag limit may be considered when total sport harvest is approaching a harvest guideline.

Dated: June 21, 2024.
Samuel D. Rauch III,
Deputy Assistant Administrator for Regulatory Programs, National Marine Fisheries Service.

[FR Doc. 2024-14063 Filed 6-26-24; 8:45 am]

BILLING CODE 3510-22-P